DEPARTMENT OF COMMERCE

National Oceanic and Atmospheric Administration

[RTID 0648-XE417]

Taking and Importing Marine Mammals; Taking Marine Mammals Incidental to Construction of the Vineyard Northeast Offshore Wind Project Offshore of Massachusetts and Connecticut

AGENCY: National Marine Fisheries Service (NMFS), National Oceanic and Atmospheric Administration (NOAA), Commerce.

ACTION: Notice; receipt of application for letter of authorization; request for comments and information.

SUMMARY: NMFS has received a request from Vineyard Northeast, LLC (Vineyard Northeast), for authorization to take small numbers of marine mammals incidental to the development of the Vineyard Northeast Offshore Wind Project (Project) in the Bureau of Ocean Energy Management (BOEM) Commercial Lease on the Outer Continental Shelf OCS-A-0522 off of Massachusetts (MA) and Connecticut (CT) over the course of 5 years beginning on January 1, 2028. Pursuant to regulations implementing the Marine Mammal Protection Act (MMPA), NMFS is announcing receipt of Vineyard Northeast's request for regulations governing the incidental taking of marine mammals and associated Letter of Authorization (LOA). NMFS invites the public to provide information, suggestions, and comments on Vineyard Northeast's application and request.

DATES: Comments and information must be received no later than January 16, 2025.

ADDRESSES: Comments on the applications should be addressed to Jolie Harrison, Chief, Permits and Conservation Division, Office of Protected Resources, National Marine Fisheries Service. Physical comments should be sent to 1315 East-West Highway, Silver Spring, Maryland 20910 and electronic comments should be sent to ITP.taylor@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-other-energy-activities-renewable without change. All personal identifying information (e.g., name, address) voluntarily submitted by the commenter may be publicly accessible. Do not submit confidential business information or otherwise sensitive or protected information.

An electronic copy of Vineyard Northeast's application may be obtained online at: https://www.fisheries.noaa.gov/national/marine-mammal-protection/incidental-take-authorizations-other-energy-activities-renewable. In case of problems accessing these documents, please call the contact listed below.

FOR FURTHER INFORMATION CONTACT: Jessica Taylor, Office of Protected Resources, NMFS, (301) 427-8401.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On May 24, 2024, NMFS received an application from Vineyard Northeast requesting authorization to take marine mammals incidental to the development of the Project in the BOEM Lease Area OCS-A-0522 off of MA and CT. In response to our comments, and following an extensive information exchange with NMFS, Vineyard Northeast submitted a final revised application on November 18, 2024, which we deemed adequate and complete on November 18, 2024. Vineyard Northeast requests the regulations and subsequent Letter of Authorization (LOA) be valid for 5 years, beginning on January 1, 2028.

Vineyard Northeast has proposed to construct the Project (comprised of two sub-projects: Project 1 and Project 2) using impact and vibratory pile driving of wind turbine generators (WTG) foundations, impact pile driving of electrical service platform (ESP) foundations and a booster station, vibratory installation and removal of cofferdams at cable landfall sites, detonation of unexploded ordinances (UXOs), site characterization surveys, seabed preparation and scour protection application, and inter-array and export cable trenching, laying, and burial. Vessels would be used to transport crew, supplies, and materials to the project area to support construction. Vineyard Northeast has determined that a subset of these activities (i.e., installing piles using impact and vibratory pile driving, vibratory installation and removal of cofferdams, site characterization surveys, and potential UXO detonation) may result in the take, by Level A harassment and/or Level B harassment, of marine mammals. Therefore, Vineyard Northeast requests authorization to incidentally take marine mammals. Take by mortality or serious injury of any marine mammal or take by Level A harassment of North Atlantic right whales is not requested.

Specified Activities

Vineyard Northeast proposes to develop, construct, and operate an offshore wind energy facility in the BOEM Lease Area OCS-A-0522 along with associated offshore and onshore transmission systems. The purpose of this facility would be to generate renewable electricity to meet the demand expressed by northeastern states and other users in order to achieve renewable energy and carbon emission reduction goals. The Lease Area is located within the southeastern portion of the MA Wind Energy Area and is approximately 46 kilometers (29 miles) from Nantucket. Offshore export cable corridors (OECC) would connect the Lease Area to landfall sites in MA and CT. Vineyard Northeast has divided the Lease Area into Project 1 (northeastern portion) and Project 2 (southwestern portion), as well as proposed two potential construction schedules consisting of a 2-year (Schedule A: 2030-2031) or 4-year (Schedule B: 2029-2032) timeline. The Project would consist of up to 160 wind turbine generator and electrical service platform positions within the Lease Area, and up to 4 offshore export cable bundles with 2 cable bundles making landfall in MA and 2 cable bundles making landfall in CT. If high voltage alternating current (HVAC) cables are used, Vineyard Northeast may install a booster station along the MA OECC in the northwestern portion of Lease Area OCS-A-0534 to increase efficiency of electrical transmission.

Vineyard Northeast anticipates the following activities may potentially result in the harassment of marine mammals during the effective period of the requested regulations and associated LOA:

• Installing up to 159 WTG monopile and/or piled jacket foundations with a maximum diameter of 14 meters (m) using a 6,600 or 8,000 kilojoules (kJ) impact hammer, vibratory hammer, and potential drilling;

• Installing up to three ESP foundations and one booster station foundation using piled jacket foundations comprised of 4.25 m pin piles driven with a 3,500 kJ impact hammer;

• Installing and removing up to 5 cofferdams comprised of sheet piles using a vibratory hammer;

• Using HRG equipment to survey the Lease Area over 64 days; and

• Potential detonation of up to 10 UXOs.

Information Solicited

Interested persons may submit information, suggestions, and comments concerning Vineyard Northeast's request (see ADDRESSES). NMFS will consider all information, suggestions, and comments related to the request during the development of proposed regulations governing the incidental taking of marine mammals by Vineyard Northeast, if appropriate.

Dated: December 11, 2024.
Kimberly Damon-Randall,
Director, Office of Protected Resources, National Marine Fisheries Service.

[FR Doc. 2024-29574 Filed 12-16-24; 8:45 am]

BILLING CODE 3510-22-P